ENVIRONMENTAL PROTECTION AGENCY

40 CFR Part 52

[EPA-R09-OAR-2018-0282; FRL-9981-98—Region 9]

Approval of Air Plan Revisions; Approvals and Promulgations: California; Placer County Air Pollution Control District; Stationary Source Permits

AGENCY: Environmental Protection Agency (EPA).

ACTION: Final rule.

SUMMARY: The Environmental Protection Agency (EPA) is finalizing action on a revision to the Placer County Air Pollution Control District (PCAPCD or District) portion of the California State Implementation Plan (SIP). This revision concerns the District's Prevention of Significant Deterioration (PSD) permitting program for new and modified sources of air pollution. We are finalizing action on a local rule under the Clean Air Act as amended in 1990 (CAA or the Act).

DATES: This rule will be effective on September 27, 2018.

ADDRESSES: The EPA has established a docket for this action under Docket No. EPA-R09-OAR-2018-0282. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Laura Yannayon, EPA Region IX, (415) 972-3534, yannayon.laura@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On June 14, 2018 (83 FR 27738), the EPA proposed to fully approve the following rule that was submitted for incorporation into the PCAPCD portion of the California SIP.

Table 1—Submitted Rule
Rule No. | Rule title | Adopted or amended | Submitted
518 | Prevention of Significant Deterioration (PSD) Permit Program | 10/13/16 | 1/24/17

We proposed approval of this rule because we determined that the rule met the statutory requirements for SIP revisions as specified in section 110(l) of the CAA, as well as the substantive statutory and regulatory requirements for a PSD permit program as contained in CAA section 110(a)(2)(C) and 40 CFR 51.166.

II. Public Comments and EPA Responses

The EPA's proposed action provided a 30-day public comment period. During this period, we received two comments on the proposed rule. These comments raised issues that are outside the scope of our proposed approval of Rule 518, including air pollution monitoring in China and India, climate change, and wind and solar power costs and regulations. None of those comments are germane to our evaluation of Rule 518.

The EPA is required to approve a state SIP submission if the submittal meets all of the applicable requirements of the Act. 42 U.S.C. 7410(k)(3). None of the submitted comments indicate that the District's submittal of Rule 518 does not meet the requirements of the Act.

III. EPA Action

No comments were submitted that change our assessment that submitted Rule 518 satisfies the applicable CAA requirements. Therefore, under CAA sections 110(k)(3) and 301(a), and for the reasons set forth in our June 14, 2018 proposed rule, we are fully approving Rule 518. This action incorporates the submitted rule into the PCAPCD portion of the California SIP and makes it federally enforceable. In addition, because we are finalizing our proposed action, we are removing the existing Rule 518 from the PCAPCD portion of the California SIP.

IV. Incorporation by Reference

In this rule, the EPA is finalizing regulatory text that includes incorporation by reference. In accordance with requirements of 1 CFR 51.5, the EPA is finalizing the incorporation by reference of the PCAPCD rule listed in Table 1 of this document. The EPA has made, and will continue to make, these documents available through www.regulations.gov and at the EPA Region IX Office (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, New source review, Ozone, Particulate matter, Reporting and recordkeeping requirements, Volatile organic compounds.

Dated: July 27, 2018.
Deborah Jordan,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(391)(i)(C)(2) and (c)(497)(i)(B)(2) to read as follows:

§ 52.220 Identification of plan—in part.

* * * * *

(c) * * *

(391) * * *

(i) * * *

(C) * * *

(2) Previously approved on December 10, 2012 in paragraph (c)(391)(i)(C)(1) of this section and now deleted with replacement in paragraph (c)(497)(i)(B)(2) of this section, Rule 518, “Prevention of Significant Deterioration (PSD) Permit Program.”

* * * * *

(497) * * *

(i) * * *

(B) * * *

(2) Rule 518, “Prevention of Significant Deterioration (PSD) Permit Program,” amended on October 13, 2016.

* * * * *

3. Section 52.270 is amended by revising paragraph (b)(6) to read as follows:

§ 52.270 Significant deterioration of air quality.

* * * * *

(b) * * *

(6) The PSD program for the Placer County Air Pollution Control District (PCAPCD), as incorporated by reference in § 52.220(c)(497)(i)(B)(2), is approved under part C, subpart 1, of the Clean Air Act. For PSD permits previously issued by EPA pursuant to § 52.21 to sources located in the PCAPCD, this approval includes the authority for the PCAPCD to conduct general administration of these existing permits, authority to process and issue any and all subsequent permit actions relating to such permits, and authority to enforce such permits.

* * * * *

[FR Doc. 2018-18529 Filed 8-27-18; 8:45 am]

BILLING CODE 6560-50-P